DEPARTMENT OF ENERGY

Federal Energy Regulatory Commission

[Docket No. RP00-161-000]

Colorado Interstate Gas Company; Notice of Tariff Filing

January 12, 2000.

Take notice that on January 7, 2000, Colorado Interstate Gas Company (CIG), tendered for filing to become part of its FERC Gas Tariff, First Revised Volume No. 1, Sixth Revised Sheet No. 176, to be effective February 7, 2000.

CIG states that it provides swing service pursuant to Rate Schedule SS-1. In implementing this Rate Schedule, CIG has discovered an oversight. CIG states that as currently structured, the commodity rate for the swing service applies only to daily gas quantities allocated to a shipper's swing contract that exceed 5% of the daily total scheduled quantities at the pertinent delivery point. To provide more flexibility to shippers, CIG asks the Commission for permission to expand the safe harbor so that the commodity rate applies only to daily swing quantities that exceed the greater of 100 Dth or 5% of the daily total scheduled quantities at the pertinent delivery point.

CIG states that this revision will ensure that the swing service commodity rate is not imposed on small gas quantities. CIG states that to ensure that shippers get the immediate benefit of this expanded flexibility, it has posted a notice on its electronic bulletin board on November 5, 1999 that waives the pertinent provision of Rate Schedule SS-1 to implement the broader “greater of” standard.

CIG further states that copies of this compliance filing have been served on CIG's jurisdictional customers and public bodies.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-1187 Filed 1-18-00;8:45am]

BILLING CODE 6717-01-M